FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011075-077.

Title: Central America Discussion Agreement.

Parties: Crowley Latin America Services, LLC.; Dole Ocean Cargo Express; Great White Fleet Liner Service Ltd; King Ocean Services Limited; and Seaboard Marine, Ltd.

Filing Party: Wayne R. Rohde, Esq.; Cozen O'Connor; 1200 Nineteenth Street NW., Washington, DC 20036.

Synopsis: The amendment corrects the address of Great White Fleet Liner Service Ltd.

Agreement No.: 012316-001.

Title: CMA CGM/HSDG/UASC/Vessel Sharing Agreement.

Parties: CMA CGM, S.A.; Hamburg Sud; United Arab Shipping Co.

Filing Party: Draughn B. Arbona, Esq; CMA CGM (America) LLC; 5701 Lake Wright Drive; Norfolk, VA 23502.

Synopsis: The amendment reflects the termination of the Far East portion of the Agreement and clarifies terms of the Agreement moving forward. The parties have requested expedited review.

Agreement No.: 012388-001.

Title: Hyundai Glovis/Hoegh Mexico Space Charter Agreement.

Parties: Hoegh Autoliners AS and Hyundai Glovis Co. Ltd.

Filing Party: Wayne Rohde; Cozen O'Connor; 1200 Nineteenth Street NW., Washington, DC 20036.

Synopsis: The amendment clarifies that the scope of the Agreement includes Puerto Rico.

Agreement No.: 012434.

Title: MSC/CMA CGM Kingston-Mobile Space Charter Agreement.

Parties: CMA CGM S.A. and Mediterranean Shiping Company S.A.

Filing Party: Draughn B. Arbona, Esq; CMA CGM (America) LLC; 5701 Lake Wright Drive; Norfolk, VA 23502.

Synopsis: This Agreement provides for MSC to charter space to CMA CGM in the Trade between Kingston, Jamaica and Mobile, Alabama.

By Order of the Federal Maritime Commission.
Dated: August 5, 2016.
Karen V. Gregory,
Secretary.

[FR Doc. 2016-19009 Filed 8-9-16; 8:45 am]

BILLING CODE 6731-AA-P